ENVIRONMENTAL PROTECTION AGENCY

[FRL-9246-7]

Next Generation Risk Assessment Public Dialogue Conference

AGENCY: Environmental Protection Agency (EPA).

ACTION: Notice of Public Dialogue Conference.

SUMMARY: As a part of the “Advancing the Next Generation of Risk Assessment” (NexGen) program, EPA is announcing a 2-day public dialogue conference to engage, inform, and encourage feedback from key stakeholders. The conference will take place on February 15 and 16, 2011 in Washington, DC and will be open to attendance by interested public participants on a first-come, first-serve basis up to the limits of available space.

DATES: The conference will be held on February 15, 2011 from 8 a.m. to 5:30 p.m. and on February 16, 2011 from 9 a.m. to 1 p.m.

ADDRESSES: The conference will take place at the Embassy Suites Convention Center, 900 10th Street, Northwest, Washington, DC 20001. ICF International, an EPA contractor, is providing logistical support for the conference. Questions regarding information, registration, and logistics for the workshop should be directed to Deshira Wallace, telephone: (703) 225-2910; e-mail: epa_nexgen_workshop@icfi.com. Questions regarding the scientific and technical aspects of the workshop should be directed to Audrey Hoffer, telephone: (703) 347-0218; e-mail: hoffer.audrey@epa.gov.

SUPPLEMENTARY INFORMATION:

I. Summary of Information About the Conference

The landscape of risk assessment is changing rapidly with new advances in molecular systems biology, the advent of several recent reports from the National Research Council, and volumes of new test data emerging from the Tox21 and European REACH programs. In response, EPA has developed the NexGen program, a collaborative exploration of new science and methods with the National Institutes of Environmental Health Sciences' National Toxicology Program, Center for Disease Control's Agency for Toxic Substances and Disease Registry, National Human Genome Research Institute, and the State of California's Environmental Protection Agency.

The NexGen program aims to create a cheaper, faster, and more robust system for chemical risk assessment by incorporating new knowledge about molecular system biology. This is the beginning of a process that will evolve over several years, and engaging key stakeholders from the beginning is central to making it a success. The NexGen public dialogue conference in February 2011 offers stakeholders an opportunity to become involved early, comment on the process, and help direct the next phases.

The conference will feature several informational presentations regarding the current science surrounding the NexGen program as well as highlights from an invitation-only scientists' meeting that took place in November 2010. Following these presentations, breakout sessions will be held in order to obtain public feedback and give stakeholders an opportunity to voice questions, comments, and concerns.

II. Conference Information

Members of the public may participate in the conference. Space is limited, and reservations will be accepted on a first-come, first-serve basis. For more information on how to register for the conference please visit: http://epa.nexgen.icfi.com. Further information regarding the conference and the NexGen program in general can be found at http://www.epa.gov/risk/nexgen.

Dated: December 22, 2010.
Darrell A. Winn,
Acting Director, National Center for Environmental Assessment.

[FR Doc. 2010-32977 Filed 12-29-10; 8:45 am]

BILLING CODE 6560-50-P